POSTAL SERVICE

39 CFR Parts 230, 233, 273

Authority of Office of Inspector General and Postal Inspection Service

AGENCY: Postal Service.

ACTION: Final rule.

SUMMARY: The Postal Service is revising portions of title 39, Code of Federal Regulations, to clarify the division of investigatory responsibilities between the Office of the Inspector General of the Postal Service and the Postal Inspection Service.

DATES: Effective July 17, 2007.

FOR FURTHER INFORMATION CONTACT: Gladis C. Griffith, Deputy General Counsel, Office of the Inspector General, United States Postal Service, 703-248-4683.

SUPPLEMENTARY INFORMATION: To promote efficient use of resources, and prevent unnecessary duplication of effort, the Postal Service has determined it is appropriate to clarify the division of investigative authority between the Office of the Inspector General and the Postal Inspection Service. Most notably, it has been determined that the Office of the Inspector General should investigate allegations of violations of postal laws or misconduct by postal employees, including mail theft, and the Inspection Service should investigate allegations of violations or postal laws or misconduct by all other persons. This delineation of responsibilities reflects agreement between the Postmaster General and the Chairman of the Board of Governors.

List of Subjects

39 CFR Part 230

Authority delegations (Government agencies), Freedom of information, Organization and functions (Government agencies), Privacy

39 CFR Part 233

Administrative practice and procedure, Banks, banking, Credit, Crime, Infants and children, Law enforcement, Penalties.

39 CFR part 273

False claims and statements, Law enforcement, Penalties, Program fraud.

In view of the considerations discussed above, the Postal Service adopts the following amendments to parts 230, 233, and 273 of title 39 of the Code of Federal Regulations.

PART 230—OFFICE OF INSPECTOR GENERAL

1. The authority citation for part 230 continues to read as follows:

Authority: 5 U.S.C. App. 3; 39 U.S.C. 401(2) and 1001.

2. Section 230.1 is amended by revising paragraph (d) to read as follows:

§ 230.1 Establishment and authority.

* * * * *

(d) The Office of Inspector General is responsible for detecting and preventing fraud, waste, and abuse in the programs and operations of the Postal Service, including, investigating all allegations of violations of postal laws or misconduct by postal employees, including mail theft, and for reviewing existing and proposed legislation and regulations relating to the programs and operations of the Postal Service.

* * * * *

PART 233—INSPECTION SERVICE AUTHORITY

3. The authority citation for part 233 continues to read as follows:

Authority: 39 U.S.C. 101, 102, 202, 204, 401, 402, 403, 404, 406, 410, 411, 1003, 3005(e)(1); 12 U.S.C. 3401-3422; 18 U.S.C. 981, 1956, 1957, 2254, 3061; 21 U.S.C. 881; Omnibus Reconciliation Act of 1996, sec. 662 (Pub. L. 104-208).

4. Section 233.1 is amended by revising paragraphs (b) introductory text and (b)(1) to read as follows:

§ 233.1 Arrest and investigative powers of Postal Inspectors.

* * * * *

(b) Limitations. The powers granted by paragraph (a) of this section shall be exercised only—

(1) In the enforcement of laws regarding property in the custody of the Postal Service, property of the Postal Service, the use of the mails, and other postal offenses. With the exception of enforcing laws related to the mails:

(i) The Office of Inspector General will investigate all allegations of violations of postal laws or misconduct by postal employees, including mail theft; and

(ii) The Inspection Service will investigate all allegations of violations of postal laws or misconduct by all other persons.

* * * * *

5. Section 233.7 is amended by paragraph (a) to read as follows:

§ 233.7 Forfeiture authority and procedures.

(a) Designation of officials having forfeiture authority. The Chief Postal Inspector is authorized to perform all duties and responsibilities necessary on behalf of the Postal Service and the Office of Inspector General to enforce 18 U.S.C. 981, 2254, and 21 U.S.C. 881, to delegate all or any part of this authority to Deputy Chief Inspectors, Inspectors in Charge, and Inspectors of the Postal Inspection Service, and to issue such instructions as may be necessary to carry out this authority.

* * * * *

PART 273—ADMINISTRATION OF PROGRAM FRAUD CIVIL REMEDIES ACT

6. The authority citation for part 273 continues to read as follows:

Authority: 31 U.S.C. Chapter 38; 39 U.S.C. 401.

7. Section 273.2 is amended by revising paragraph (c) to read as follows:

§ 273.2 Definitions.

* * * * *

(c ) Investigating Official refers to the Inspector General of the Postal Service or any designee within the United States Office of the Inspector General who serves in a position for which the rate of basic pay is not less than the minimum rate of basic pay for grade GS-15 under the General Schedule.

* * * * *

Stanley F. Mires,
Chief Counsel, Legislative.

[FR Doc. E7-13740 Filed 7-16-07; 8:45 am]

BILLING CODE 7710-12-P